Title 3—

The President

Presidential Determination No. 2023-10 of September 13, 2023

Continuation of the Exercise of Certain Authorities Under the Trading With the Enemy Act

Memorandum for the Secretary of State [and] the Secretary of the Treasury

Under section 101(b) of Public Law 95-223 (91 Stat. 1625; 50 U.S.C. 4305 note), and a previous determination on September 2, 2022 (87 FR 54859, September 8, 2022), the exercise of certain authorities under the Trading With the Enemy Act is scheduled to expire on September 14, 2023.

I hereby determine that the continuation of the exercise of those authorities with respect to Cuba for 1 year is in the national interest of the United States.

Therefore, consistent with the authority vested in me by section 101(b) of Public Law 95-223, I continue for 1 year, until September 14, 2024, the exercise of those authorities with respect to Cuba, as implemented by the Cuban Assets Control Regulations, 31 C.F.R. Part 515.

The Secretary of the Treasury is authorized and directed to publish this determination in the Federal Register.

THE WHITE HOUSE,

Washington, September 13, 2023

[FR Doc. 2023-20302

Filed 9-15-23; 11:15 am]

Billing code 4811-33-P